ENVIRONMENTAL PROTECTION AGENCY

[EPA-HQ-OAR-2012-0103; FRL-9933-05-OAR]

Agency Information Collection Activities; Submission to OMB for Review and Approval; Comment Request; Diesel Emissions Reduction Act (DERA) Rebate Program; EPA ICR No. 2461.02, OMB Control No. 2060-0686 RENEWAL

AGENCY: Environmental Protection Agency (EPA).

ACTION: Notice.

SUMMARY: The Environmental Protection Agency (EPA) is planning to submit an information collection request (ICR), “Diesel Emissions Reduction Act (DERA) Rebate Program” (EPA ICR No. 2461.02, OMB Control No. 2060-0686 RENEWAL) to the Office of Management and Budget (OMB) for review and approval in accordance with the Paperwork Reduction Act (44 U.S.C. 3501 et seq.). Before doing so, EPA is soliciting public comments on specific aspects of the proposed information collection as described below. This is a proposed extension of the ICR, which is currently approved through October 31, 2015. An Agency may not conduct or sponsor and a person is not required to respond to a collection of information unless it displays a currently valid OMB control number.

DATES: Comments must be submitted on or before October 26, 2015.

ADDRESSES: Submit your comments, referencing Docket ID No. EPA-HQ-OAR-2012-0103, online using www.regulations.gov (our preferred method), by email to a-and-r-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Tyler Cooley, Office of Transportation and Air Quality, (Mail Code: 6406A), Environmental Protection Agency, 1200 Pennsylvania Ave. NW., Washington, DC 20460; telephone number: 415-972-3937; fax number: 202-343-2803; email address: cooley.tyler@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This is an extension of the current Information Collection Request (ICR) for the Diesel Emissions Reduction Act program (DERA) authorized by Title VII, Subtitle G (Sections 791 to 797) of the Energy Policy Act of 2005 (Pub. L. 109-58), as amended by the Diesel Emissions Reduction Act of 2010 (Pub. L. 111-364), codified at 42 U.S.C. 16131 et seq. DERA provides the Environmental Protection Agency (EPA) with the authority to award grants, rebates or low-cost revolving loans on a competitive basis to eligible entities to fund the costs of projects that significantly reduce diesel emissions from mobile sources through implementation of a certified engine configuration, verified technology, or emerging technology. Eligible mobile sources include buses (including school buses), medium heavy-duty or heavy heavy-duty diesel trucks, marine engines, locomotives, or nonroad engines or diesel vehicles or equipment used in construction, handling of cargo (including at ports or airports), agriculture, mining, or energy production. In addition, eligible entities may also use funds awarded for programs or projects to reduce long-duration idling using verified technology involving a vehicle or equipment described above. The objective of the assistance under this program is to achieve significant reductions in diesel emissions in terms of tons of pollution produced and reductions in diesel emissions exposure, particularly from fleets operating in areas designated by the Administrator as poor air quality areas.

EPA uses approved procedures and forms to collect necessary information to operate its grant and rebate programs. EPA has been providing rebates under DERA since Fiscal Year 2012. EPA is requesting an extension of the current ICR, which is currently approved through October 31, 2015, for forms needed to collect necessary information to operate a rebate program as authorized by Congress under the DERA program.

EPA collects information from applicants to the DERA rebate program. Information collected is used to ensure eligibility of applicants and engines to receive funds under DERA, and to calculate estimated and actual emissions benefits that result from activities funded with rebates as required in DERA's authorizing legislation.

Form Numbers: 2060-0686

Respondents/affected entities: Entities potentially affected by this action are those interested in applying for a rebate under EPA's Diesel Emission Reduction Act (DERA) Rebate Program and include but are not limited to the following NAICS (North American Industry Classification System) codes: 23 Construction; 482 Rail Transportation; 483 Water Transportation; 484 Truck Transportation; 485 Transit and Ground Passenger Transportation; 48831 Port and Harbor Operations; 61111 Elementary and Secondary Schools; 61131 Colleges, Universities, and Professional Schools; 9211 Executive, Legislative, and Other Government Support; and 9221 Justice, Public Order, and Safety Activities.

Respondent's obligation to respond: Voluntary.

Estimated number of respondents: 500-1,000 (total).

Frequency of response: Voluntary as needed.

Total estimated burden: 2,827 hours (per year). Burden is defined at 5 CFR 1320.03(b).

Total estimated cost: $128,390 (per year), includes $0 annualized capital or operation and maintenance costs.

Changes in Estimates: There is an increase of 1,933 hours in the total estimated respondent burden compared with the ICR currently approved by OMB. This increase is due to a higher level of interest in the rebate program than originally anticipated. This revised cost estimate is based on the average number of applications submitted to previous rebate funding opportunities. For example, EPA received over 1,000 applications for the 2012 School Bus Pilot Rebate Program. In response, EPA lowered the rebate amounts offered for subsequent funding opportunities however interest remains particularly high for school bus rebates.

Dated: August 4, 2015.
Karl Simon,
Director, Transportation and Climate Division, Office of Air and Radiation.

[FR Doc. 2015-21022 Filed 8-24-15; 8:45 am]

BILLING CODE 6560-50-P